OVERSEAS PRIVATE INTESTMENT CORPORATION

May 16, 2002 Public Hearing

OPIC's Sunshine Act notice of its public hearing was published in the Federal Register (Volume 67, Number 84, Page 21779) on May 1, 2002. No requests were received to provide testimony or submit written statements for the record; therefore, OPIC's public hearing in conjunction with OPIC's May 22, 2002 Board of Directors meeting scheduled for 2 p.m. on May 16, 2002 has been cancelled.

CONTACT PERSON FOR INFORMATION: Information on the hearing cancellation may be obtained from Connie M. Downs at (202) 336-8438, via facsimile at (202) 218-0136, or via e-mail at cdown@opic.gov.

Dated: May 16, 2002.
Connie M. Downs,
OPIC Corporate Secretary.

[FR Doc. 02-12727 Filed 5-16-02; 3:09 pm]

BILLING CODE 3210-01-M